FEDERAL ELECTION COMMISSION

Sunshine Act Meetings

TIME AND DATE: Thursday, January 30, 2025, 10:00 a.m.

PLACE: Hybrid Meeting: 1050 First Street NE, Washington, DC (12th Floor) and Virtual.

Note: If you would like to virtually access the meeting, see the instructions below.

STATUS: This meeting will be open to the public. To access the meeting virtually, go to the commission's website www.fec.gov and click on the banner to be taken to the meeting page.

MATTERS TO BE CONSIDERED:

Proposed Revisions to Directives 10 (Rules of Procedure of the Federal Election Commission Pursuant to 2 U.S.C. 437(c)(e)) and 17 (Circulation Authority; Agenda Deadline Procedures)

Management and Administrative Matters

CONTACT PERSON FOR MORE INFORMATION: Judith Ingram, Press Officer, Telephone: (202) 694-1220

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Submitted: January 23, 2025.
Laura E. Sinram,
Secretary and Clerk of the Commission.

[FR Doc. 2025-01845 Filed 1-23-25; 4:15 pm]

BILLING CODE 6715-01-P